DEPARTMENT OF THE INTERIOR

Bureau of Land Management

[MT-926-04-1420-BJ]

Montana: Filing of Plats of Amended Protraction Diagrams

AGENCY: Bureau of Land Management, Montana State Office, Interior.

ACTION: Notice of filing of plats of amended protraction diagrams.

SUMMARY: The Bureau of Land Management (BLM) will file the plats of the amended protraction diagrams of the lands described below in the BLM Montana State Office, Billings, Montana, (30) days from the date of publication in the Federal Register.

FOR FURTHER INFORMATION CONTACT: Robert L. Brockie, Cadastral Surveyor, Branch of Cadastral Survey, Bureau of Land Management, 5001 Southgate Drive, P.O. Box 36800, Billings, Montana 59107-6800, telephone (406) 896-5125 or (406) 896-5009.

SUPPLEMENTARY INFORMATION: The amended protraction diagrams were prepared at the request of the U.S. Forest Service and are necessary to accommodate Revision of Primary Base Quadrangle Maps for the Geometronics Service Center.

The lands for the prepared amended protraction diagrams are:

Principal Meridian

Montana

Tps. 25, 26, 27, and 28 N., Rs. 17, 18, and 19 W.

The plat, representing the Amended Protraction Diagram 38 Index of unsurveyed Townships 25, 26, 27, and 28 North, Ranges 17, 18, and 19 West, Principal Meridian, Montana, was accepted October 10, 2003.

T. 25 N., R. 17 W.

The plat, representing Amended Protraction Diagram 38 of unsurveyed Township 25 North, Range 17 West, Principal Meridian, Montana, was accepted October 10, 2003.

T. 26 N., R. 17 W.

The plat, representing Amended Protraction Diagram 38 of unsurveyed Township 26 North, Range 17 West, Principal Meridian, Montana, was accepted October 10, 2003.

T. 27 N., R. 17 W.

The plat, representing Amended Protraction Diagram 38 of unsurveyed Township 27 North, Range 17 West, Principal Meridian, Montana, was accepted October 10, 2003.

T. 28 N., R. 17 W.

The plat, representing Amended Protraction Diagram 38 of unsurveyed Township 28 North, Range 17 West, Principal Meridian, Montana, was accepted October 10, 2003.

T. 26 N., R. 18 W.

The plat, representing Amended Protraction Diagram 38 of unsurveyed Township 26 North, Range 18 West, Principal Meridian, Montana, was accepted October 10, 2003.

T. 27 N., R. 18 W.

The plat, representing Amended Protraction Diagram 38 of unsurveyed Township 27 North, Range 18 West, Principal Meridian, Montana, was accepted October 10, 2003.

T. 28 N., R. 18 W.

The plat, representing Amended Protraction Diagram 38 of unsurveyed Township 28 North, Range 18 West, Principal Meridian, Montana, was accepted October 10, 2003.

T. 27 N., R. 19 W.

The plat, representing Amended Protraction Diagram 38 of unsurveyed Township 27 North, Range 19 West, Principal Meridian, Montana, was accepted October 10, 2003.

T. 28 N., R. 19 W.

The plat, representing Amended Protraction Diagram 38 of unsurveyed Township 28 North, Range 19 West, Principal Meridian, Montana, was accepted October 10, 2003.

Tps. 29, 30, 31, and 32 N., Rs. 18, 19, 20, 21, and 22 West.

The plat, representing the Amended Protraction Diagram 42 Index of unsurveyed Townships 29, 30, 31, and 32 North, Ranges 18, 19, 20, 21, and 22 West, Principal Meridian, Montana, was accepted October 10, 2003.

T. 29 N., R. 19 W.

The plat, representing Amended Protraction Diagram 42 of unsurveyed Township 29 North, Range 19 West, Principal Meridian, Montana, was accepted October 10, 2003.

T. 30 N., R. 18 W.

The plat, representing Amended Protraction Diagram 42 of unsurveyed Township 30 North, Range 18 West, Principal Meridian, Montana, was accepted October 10, 2003.

T. 30 N., R. 19 W.

The plat, representing Amended Protraction Diagram 42 of unsurveyed Township 30 North, Range 19 West, Principal Meridian, Montana, was accepted October 10, 2003.

T. 30 N., R. 20 W.

The plat, representing Amended Protraction Diagram 42 of unsurveyed Township 30 North, Range 20 West, Principal Meridian, Montana, was accepted October 10, 2003.

T. 31 N., R. 18 W.

The plat, representing Amended Protraction Diagram 42 of unsurveyed Township 31 North, Range 18 West, Principal Meridian, Montana, was accepted October 10, 2003.

T. 31 N., R. 19 W.

The plat, representing Amended Protraction Diagram 42 of unsurveyed Township 31 North, Range 19 West, Principal Meridian, Montana, was accepted October 10, 2003.

T. 31 N., R. 21 W.

The plat, representing Amended Protraction Diagram 42 of unsurveyed Township 31 North, Range 21 West, Principal Meridian, Montana, was accepted October 10, 2003.

T. 32 N., R. 18 W.

The plat, representing Amended Protraction Diagram 42 of unsurveyed Township 32 North, Range 18 West, Principal Meridian, Montana, was accepted October 10, 2003.

T. 32 N., R. 19 W.

The plat, representing Amended Protraction Diagram 42 of unsurveyed Township 32 North, Range 19 West, Principal Meridian, Montana, was accepted October 10, 2003.

T. 32 N., R. 20 W.

The plat, representing Amended Protraction Diagram 42 of unsurveyed Township 32 North, Range 20 West, Principal Meridian, Montana, was accepted October 10, 2003.

T. 32 N., R. 21 W.

The plat, representing Amended Protraction Diagram 42 of unsurveyed Township 32 North, Range 21 West, Principal Meridian, Montana, was accepted October 10, 2003.

T. 32 N., R. 22 W.

The plat, representing Amended Protraction Diagram 42 of unsurveyed Township 32 North, Range 22 West, Principal Meridian, Montana, was accepted October 10, 2003.

Tps. 29, 30, 31, and 32 N., Rs. 14, 15, 16, and 17 West.

The plat, representing the Amended Protraction Diagram 43 Index of unsurveyed Townships 29, 30, 31, and 32 North, Ranges 14, 15, 16, and 17 West, Principal Meridian, Montana, was accepted October 10, 2003.

T. 29 N., R. 14 W.

The plat, representing Amended Protraction Diagram 43 of unsurveyed Township 29 North, Range 14 West, Principal Meridian, Montana, was accepted October 10, 2003.

T. 29 N., R. 16 W.

The plat, representing Amended Protraction Diagram 43 of unsurveyed Township 29 North, Range 16 West, Principal Meridian, Montana, was accepted October 10, 2003.

T. 29 N., R. 17 W.

The plat, representing Amended Protraction Diagram 43 of unsurveyed Township 29 North, Range 17 West, Principal Meridian, Montana, was accepted October 10, 2003.

T. 30 N., R. 14 W.

The plat, representing Amended Protraction Diagram 43 of unsurveyed Township 30 North, Range 14 West, Principal Meridian, Montana, was accepted October 10, 2003.

T. 30 N., R. 15 W.

The plat, representing Amended Protraction Diagram 43 of unsurveyed Township 30 North, Range 15 West, Principal Meridian, Montana, was accepted October 10, 2003.

T. 30 N., R. 16 W.

The plat, representing Amended Protraction Diagram 43 of unsurveyed Township 30 North, Range 16 West, Principal Meridian, Montana, was accepted October 10, 2003.

T. 30 N., R. 17 W.

The plat, representing Amended Protraction Diagram 43 of unsurveyed Township 30 North, Range 17 West, Principal Meridian, Montana, was accepted October 10, 2003.

T. 31 N., R. 14 W.

The plat, representing Amended Protraction Diagram 43 of unsurveyed Township 31 North, Range 14 West, Principal Meridian, Montana, was accepted October 10, 2003.

T. 31 N., R. 15 W.

The plat, representing Amended Protraction Diagram 43 of unsurveyed Township 31 North, Range 15 West, Principal Meridian, Montana, was accepted October 10, 2003.

T. 31 N., R. 16 W.

The plat, representing Amended Protraction Diagram 43 of unsurveyed Township 31 North, Range 16 West, Principal Meridian, Montana, was accepted October 10, 2003.

T. 32 N., R. 14 W.

The plat, representing Amended Protraction Diagram 43 of unsurveyed Township 32 North, Range 14 West, Principal Meridian, Montana, was accepted October 10, 2003.

T. 32 N., R. 15 W.

The plat, representing Amended Protraction Diagram 43 of unsurveyed Township 32 North, Range 15 West, Principal Meridian, Montana, was accepted October 10, 2003.

T. 32 N., R. 16 W.

The plat, representing Amended Protraction Diagram 43 of unsurveyed Township 32 North, Range 16 West, Principal Meridian, Montana, was accepted October 10, 2003.

T. 32 N., R. 17 W.

The plat, representing Amended Protraction Diagram 43 of unsurveyed Township 32 North, Range 17 West, Principal Meridian, Montana, was accepted October 10, 2003.

Tps. 33, 34, 35, 36, and 37 N., Rs. 21, 22, 23, and 24 W.

The plat, representing the Amended Protraction Diagram 47 Index of unsurveyed Townships 33, 34, 35, 36, and 37 North, Ranges 21, 22, 23, and 24 West, Principal Meridian, Montana, was accepted October 24, 2003.

T. 33 N., R. 21 W.

The plat, representing Amended Protraction Diagram 47 of unsurveyed Township 33 North, Range 21 West, Principal Meridian, Montana, was accepted October 24, 2003.

T. 33 N., R. 22 W.

The plat, representing Amended Protraction Diagram 47 of unsurveyed Township 33 North, Range 22 West, Principal Meridian, Montana, was accepted October 24, 2003.

T. 34 N., R. 21 W.

The plat, representing Amended Protraction Diagram 47 of unsurveyed Township 34 North, Range 21 West, Principal Meridian, Montana, was accepted October 24, 2003.

T. 34 N., R. 22 W.

The plat, representing Amended Protraction Diagram 47 of unsurveyed Township 34 North, Range 22 West, Principal Meridian, Montana, was accepted October 24, 2003.

T. 34 N., R. 23 W.

The plat, representing Amended Protraction Diagram 47 of unsurveyed Township 34 North, Range 23 West, Principal Meridian, Montana, was accepted October 24, 2003.

T. 35 N., R. 22 W.

The plat, representing Amended Protraction Diagram 47 of unsurveyed Township 35 North, Range 22 West, Principal Meridian, Montana, was accepted October 24, 2003.

T. 35 N., R. 23 W.

The plat, representing Amended Protraction Diagram 47 of unsurveyed Township 35 North, Range 23 West, Principal Meridian, Montana, was accepted October 24, 2003.

T. 35 N., R. 24 W.

The plat, representing Amended Protraction Diagram 47 of unsurveyed Township 35 North, Range 24 West, Principal Meridian, Montana, was accepted October 24, 2003.

T. 36 N., R. 21 W.

The plat, representing Amended Protraction Diagram 47 of unsurveyed Township 36 North, Range 21 West, Principal Meridian, Montana, was accepted October 24, 2003.

T. 36 N., R. 22 W.

The plat, representing Amended Protraction Diagram 47 of unsurveyed Township 36 North, Range 22 West, Principal Meridian, Montana, was accepted October 24, 2003.

T. 36 N., R. 23 W.

The plat, representing Amended Protraction Diagram 47 of unsurveyed Township 36 North, Range 23 West, Principal Meridian, Montana, was accepted October 24, 2003.

T. 36 N., R. 24 W.

The plat, representing Amended Protraction Diagram 47 of unsurveyed Township 36 North, Range 24 West, Principal Meridian, Montana, was accepted October 24, 2003.

T. 37 N., R. 21 W.

The plat, representing Amended Protraction Diagram 47 of unsurveyed Township 37 North, Range 21 West, Principal Meridian, Montana, was accepted October 24, 2003.

T. 37 N., R. 22 W.

The plat, representing Amended Protraction Diagram 47 of unsurveyed Township 37 North, Range 22 West, Principal Meridian, Montana, was accepted October 24, 2003.

T. 37 N., R. 23 W.

The plat, representing Amended Protraction Diagram 47 of unsurveyed Township 37 North, Range 23 West, Principal Meridian, Montana, was accepted October 24, 2003.

T. 37 N., R. 24 W.

The plat, representing Amended Protraction Diagram 47 of unsurveyed Township 37 North, Range 24 West, Principal Meridian, Montana, was accepted October 24, 2003.

Tps. 34, 35, 36, and 37 N., Rs. 25 and 26 W.

The plat, representing the Amended Protraction Diagram 48 Index of unsurveyed Townships 34, 35, 36, and 37 North, Ranges 25 and 26 West, Principal Meridian, Montana, was accepted October 24, 2003.

T. 34 N., R. 25 W.

The plat, representing Amended Protraction Diagram 48 of unsurveyed Township 34 North, Range 25 West, Principal Meridian, Montana, was accepted October 24, 2003.

T. 35 N., R. 25 W.

The plat, representing Amended Protraction Diagram 48 of unsurveyed Township 35 North, Range 25 West, Principal Meridian, Montana, was accepted October 24, 2003.

T. 36 N., R. 25 W.

The plat, representing Amended Protraction Diagram 48 of unsurveyed Township 36 North, Range 25 West, Principal Meridian, Montana, was accepted October 24, 2003.

T. 36 N., R. 26 W.

The plat, representing Amended Protraction Diagram 48 of unsurveyed Township 36 North, Range 26 West, Principal Meridian, Montana, was accepted October 24, 2003.

T. 37 N., R. 25 W.

The plat, representing Amended Protraction Diagram 48 of unsurveyed Township 37 North, Range 25 West, Principal Meridian, Montana, was accepted October 24, 2003.

T. 37 N., R. 26 W.

The plat, representing Amended Protraction Diagram 48 of unsurveyed Township 37 North, Range 26 West, Principal Meridian, Montana, was accepted October 24, 2003.

We will place copies of the plats of the amended protraction diagrams we described in the open files. They will be available to the public as a matter of information.

If BLM receives a protest against these amended protraction diagrams, as shown on these plats, prior to the date of the official filings, we will stay the filings pending our consideration of the protest.

We will not officially file these plats of the amended protraction diagrams until the day after we have accepted or dismissed all protests and they have become final, including decisions or appeals.

Dated: January 20, 2004.
Steven G. Schey,
Acting Chief Cadastral Surveyor, Division of Resources.

[FR Doc. 04-1844 Filed 1-28-04; 8:45 am]

BILLING CODE 4310-$$-P